DEPARTMENT OF COMMERCE

National Oceanic and Atmospheric Administration

Agency Information Collection Activities; Submission to the Office of Management and Budget (OMB) for Review and Approval; Improving Knowledge About NWS Forecaster Core Partner Needs for Reducing Vulnerability to Compound Threats in Landfalling Tropical Cyclones Amid COVID-19

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 19, 2022.

ADDRESSES: Interested persons are invited to submit written comments to Adrienne Thomas, NOAA PRA Officer, at Adrienne.thomas@noaa.gov. Please reference OMB Control Number 0648-xxxx in the subject line of your comments. Do not submit Confidential Business Information or otherwise sensitive or protected information.

FOR FURTHER INFORMATION CONTACT: Requests for additional information or specific questions related to collection activities should be directed to Nicole Kurkowski, R2O Team Lead, DOC/NOAA/NWS/OSTI, 1325 East West Highway, Silver Spring, MD 20910, 301.427.9104, nicole.kurkowski@noaa.gov.

SUPPLEMENTARY INFORMATION:

I. Abstract

This is a request for a new collection of information.

The data collection is sponsored by DOC/NOAA/National Weather Service (NWS)/Office of Science and Technology Integration (OSTI). Compound hazards, like tornadoes and flash floods (called TORFFs), are a significant issue for risk communication and are common in landfalling tropical cyclones. Currently, NOAA lacks data and data collection instruments that articulate and explain how emergency managers and broadcast meteorologists receive, interpret, and respond to NWS prediction information about these compound hazards before and during landfalling tropical cyclones, like Hurricane Ida. Furthermore, NOAA lacks adequate knowledge about how these risks are best communicated during COVID-19, when it is important for those who are most vulnerable to adjudicate their risks of exposure to both severe weather and COVID-19. Such knowledge about compound weather hazards would be particularly useful for NWS forecasters who communicate risk information to their colleagues in emergency management and broadcast meteorology (hereafter “partners”), especially when information about sheltering practices, evacuation, and vulnerability can be complicated by exposure to public health threats and bilingual needs.

Without this type of information about how partners grapple with the communication of compound hazards amid the pandemic, NOAA, and specifically the NWS, cannot determine if it has met its mission of saving lives and property, propose societal impact performance metrics, nor demonstrate if progress or improvements have been made, as outlined in the Weather Research and Forecasting Innovation Act of 2017. This effort aims to advance the goal to collaborate across sectors on “research necessary to enhance the integration of social science knowledge into weather forecast and warning processes, including to improve the communication of threat information necessary to enable improved severe weather planning and decision making on the part of individuals and communities (Pub. L. 115-25)”. This work addresses NOAA's 5-year Research and Development Vision Areas (2020-2026) Section 1.4 (FACETs). This effort also advances the NWS Strategic Plan (2019-2022) “Transformative Impact-Based Decision Support Services (IDSS) and Research to Operations and Operations to Research (R2O/O2R)” with specific attention to Goal 1, sections 1.1, 1.2, 1.5, 1.13 and Goal 3, sections 3.6 and 3.8. Furthermore, data collected with NWS partners furthers the NWS Weather Ready Nation (WRN) Roadmap (2013) Sections 1.1.10, and 1.2.2.

Two types of data—interviews and surveys—will be collected by researchers at Texas Tech University's Risk and Equity in Disasters (RED) Lab and at Texas A&M. They have begun to develop data collection instruments that will allow them to gather risk information from both English and Spanish speaking partners. These instruments are being created in collaboration with experts in emergency management and broadcast meteorology through the Board on Emergency Management and the Board on Professional Development within the American Meteorological Society. This helps assure the appropriateness of questions relative to different decision spaces, job roles, and communication processes.

This data collection serves many purposes, including building knowledge of how partners attend to, make sense of, and communicate compound hazards, as well as challenges they face in identifying vulnerable populations to severe weather in the context of COVID-19. This data may be used by the NWS training centers in Norman, OK, and Kansas City, MO, to inform their practices for Impact-Based Decision Support Services (IDSS) and to improve the information and services it provides to members of the Weather Enterprise. Specifically, data collected will help NWS develop new forecaster training modules, situational awareness strategies, and best practices for IDSS with partners. This research-to-operations application of knowledge is a necessary step in improving risk communication among expert groups, which, in turn, benefits vulnerable populations who ultimately must act quickly and safely to adjudicate which risks pose the greatest threat to them as the threats evolve.

II. Method of Collection

The primary methods of data collection for this study will be virtual or in-person semi-structured interviews (COVID-19 restriction dependent) with partners for a case study of TORFFs in the first year of the grant (2021-2022, or Phase 1) followed by a national online survey of partners in the second year (2022-2023, or Phase 2). For Phase 1, semi-structured interviews will be conducted with partners in local areas impacted by a recent hurricane with embedded TORFF hazards, such as Hurricane Ida and its remnants. Questions will focus on risk assessment, risk communication, and vulnerability within the context of a pandemic. Convenience sampling will be used based on those areas that experienced TORFF warnings, as verified by sources like the Iowa Environmental Mesonet, and internet searches of news stories about TORFF impacts. For Phase 2, a national online survey will be designed and fielded after interview data have been analyzed. Results from Phase 1 will be used to guide survey design, including sampling strategy and sampling frame. Survey questions will reflect findings and elicit information about compound hazard risk communication and vulnerability for the same population. The survey will be designed with assistance from a consulting service (e.g., Qualtrics) and suggestions from collaborators from public safety. Interview guides and survey questions will be translated into and conducted in Spanish, where appropriate.

Respondents will include adults (age 18+) who reside in the United States, recruited through emails and phone calls to partners in areas impacted by TORFFs embedded in landfalling tropical cyclones. Contact information for respondents is publicly available and will be obtained both by internet searches and, when needed, with the assistance of local NWS Weather Forecast Office staff to identify appropriate participants in emergency management and broadcast media markets. For interviews, emails and phone calls will be used to recruit participants and coordinate interviews via Zoom or other video platform; interviews may also be conducted in person, depending on local COVID restrictions. Survey respondents will likewise be contacted through email and directed to an online survey. NWS staff may assist in facilitating email introductions to their partners for interview requests and to help distribute survey links to ensure sufficient response rates. Our collaborators with the American Meteorological Society and the National Weather Association will also help us identify outreach approaches to recruit participants (e.g., social media and message boards) and ensure sufficient response rates.

III. Data

OMB Control Number: 0648-XXXX.

Form Number(s): None.

Type of Review: Regular (New information collection).

Affected Public: Business or other for-profit organizations; State, Local, or Tribal government; Federal government.

Estimated Number of Respondents for interviews for Interviews: 30.

Estimated Time Per Response: 1 hour per respondent.

Estimated Total Annual Burden Hours for Interviews: 30.

Estimated Total Annual Cost to Public: None.

Respondent's Obligation: Voluntary.

Legal Authority: 15 U.S.C. Ch. 111, Weather Research and Forecasting Information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-15360 Filed 7-18-22; 8:45 am]

BILLING CODE 3510-KE-P